DEPARTMENT OF HEALTH AND HUMAN SERVICES

Substance Abuse and Mental Health Services Administration (SAMHSA)

Agency Information Collection Activities: Proposed Collection; Comment Request

In compliance with Section 3506(c)(2)(A) of the Paperwork Reduction Act of 1995 concerning opportunity for public comment on proposed collections of information, SAMHSA will publish periodic summaries of proposed projects. To request more information on the proposed projects or to obtain a copy of the information collection plans, call the SAMHSA Reports Clearance Officer on (240) 276-0361.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including leveraging automated data collection techniques or other forms of information technology.

Proposed Project: Community Mental Health Services Block Grant and Substance Abuse Prevention and Treatment Block Grant FY 2022-2023 Plan and Report Guidance and Instructions (OMB No. 0930-0168)—Extension

SAMHSA is requesting approval from the Office of Management and Budget (OMB) for an extension of the 2020-21 Community Mental Health Services Block Grant (MHBG) and Substance Abuse Prevention and Treatment Block Grant (SABG) Application Plan and Report Guidance and Instructions.

Currently, the SABG and the MHBG differ on a number of their practices (e.g., data collection at individual or aggregate levels) and statutory authorities (e.g., method of calculating MOE, stakeholder input requirements for planning, set asides for specific populations or programs, etc.). Historically, the Centers within SAMHSA that administer these block grants have had different approaches to application requirements and reporting. To compound this variation, states have different structures for accepting, planning, and accounting for the block grants and the prevention set aside within the SABG. As a result, how these dollars are spent and what is known about the services and clients that receive these funds varies by block grant and by state.

SAMHSA has conveyed that block grant funds must be directed toward four purposes: (1) To fund priority treatment and support services for individuals without insurance or who cycle in and out of health insurance coverage; (2) to fund those priority treatment and support services not covered by Medicaid, Medicare, or private insurance offered through the exchanges and that demonstrate success in improving outcomes and/or supporting recovery; (3) to fund universal, selective and targeted prevention activities and services; and (4) to collect performance and outcome data to determine the ongoing effectiveness of behavioral health prevention, treatment and recovery support services and to plan the implementation of new services on a nationwide basis.

States will need help to meet future challenges associated with, the implementation and management of an integrated physical health, mental health, and addiction service system. SAMHSA has established standards and expectations that will lead to an improved system of care for individuals with or at risk of mental and substance use disorders. Therefore, this application package continues to fully exercise SAMHSA's existing authority regarding states', territories' and the Red Lake Band of the Chippewa Tribe's (subsequently referred to as “states”) use of block grant funds as they fully integrate behavioral health services into the broader health care continuum.

Consistent with previous applications, the FY 2022-2023 application has required sections and other sections where additional information is requested. The FY 2022-2023 application requires states to submit a face sheet, a table of contents, a behavioral health assessment and plan, reports of expenditures and persons served, an executive summary, and funding agreements and certifications. In addition, SAMHSA is requesting information on key areas that are critical to the states' success in addressing health care equity. Therefore, as part of this block grant planning process, states should identify promising or effective strategies as well as technical assistance needed to implement the strategies identified in their plans for FYs 2022 and 2023.

Pursuant to the supplemental funding appropriations for the MHBG and the SABG found in the Consolidated Appropriations Act, 2021 [Pub. L. 116-260] and the American Rescue Plan Act, 2021 [Pub. L. 117-2], SAMHSA has made changes to the Block Grant Plan and Report requirements for FFY 2022 and 2023. These changes are necessary to ensure that funds are spent in an appropriate and timely manner. Adjustments were made to pre-existing tables in the plan and report. Additionally, six new tables were added to the report to capture necessary changes based on the priorities of the supplemental funding. For simplification, one table was removed from both the plan and the report.

On the Application Planning document the narrative has been updated to reflect new funding streams (COVID-19 and ARP funding). Additionally, SABG and MHBG have split their funding tables (table 2 and table 6) in both the plan and the report to allow for more accurate reporting of both standard and supplemental funding. Table 5b has been absorbed into Table 5a and Table 5c is now relabeled Table 5b. Tables 5a and 5b are also now required. On the report there are more changes with the addition of six new tables to expenditures section (Table 2b on the SABG and Table 2c on the MHBG) and tables recording client service levels under the population and services reports section (Tables 10b, 11b and 11c on the SABG and Table 19b on the MHBG). These additional tables should not require excessive effort as all data should already be being collected by the states for the additional funding efforts. Table 5b has also been absorbed into Table 5a for ease of response on both the application and reporting process and Table 5c has now been relabeled Table 5b and made a required table.

While the statutory deadlines and block grant award periods remain unchanged, SAMHSA encourages states to turn in their application as early as possible to allow for a full discussion and review by SAMHSA. Applications for the MHBG-only are due no later than September 1, 2021. The application for SABG-only is due no later than October 1, 2021. A single application for MHBG and SABG combined is due no later than September 1, 2021.

Estimates of Annualized Hour Burden

The estimated annualized burden for the uniform application will increase to 33,493 hours to account for recording of the additional supplemental funding efforts (approximately 2 hours per state agency). Burden estimates are broken out in the following tables showing burden separately for Year 1 and Year 2. Year 1 includes the estimates of burden for the uniform application and annual reporting. Year 2 includes the estimates of burden for the recordkeeping and annual reporting. The reporting burden remains constant for both years.

Table 1—Estimates of Application and Reporting Burden for Year 1
Substance abuse prevention and treatment and community mental health services block grants: Authorizing legislation SABG | Substance abuse prevention and treatment and community mental health services block grants: Authorizing legislation MHBG | Substance abuse prevention and treatment and community mental health services block grants: Implementing regulation | Substance abuse prevention and treatment and community mental health services block grants: Number of respondent | Substance abuse prevention and treatment and community mental health services block grants: Number of responses per year | Substance abuse prevention and treatment and community mental health services block grants: Number of hours per response | Substance abuse prevention and treatment and community mental health services block grants: Total hours
Reporting:
Standard Form and Content |  |  |  |  |  |
42 U.S.C. § 300x-32(a) |  |  |  |  |  |
SABG:
Annual Report |  |  |  |  |  | 11,190
42 U.S.C. 300x-52(a) |  | 45 CFR 96.122(f) | 60 | 1 |  |
42 U.S.C. 300x-30-b |  |  | 5 | 1 |  |
42 U.S.C. 300x-30(d)(2) |  | 45 CFR 96.134(d) | 60 | 1 |  |
MHBG:
Annual Report |  |  |  |  |  | 11,003
| 42 USC § 300x-6(a) |  | 59 | 1 |  |
| 42 U.S.C. 300x-52(a) |  |  |  |  |
| 42 U.S.C. 300x-4(b)(3)B |  | 59 | 1 |  |
State Plan (Covers 2 years) |  |  |  |  |  |
SABG elements:
42 U.S.C. 300x-22(b) |  | 45 CFR 96.124(c)()1) | 60 | 1 |  |
42 U.S.C. 300x-23 |  | 45 CFR 96.126(f) | 60 | 1 |  |
42 U.S.C. 300x-27 |  | 45 CFR 96.131(f) | 60 | 1 |  |
42 U.S.C. 300x-32(b) |  | 45 CFR 96.122(g) | 60 | 1 | 120 | 7,230
MHBG elements: | 42 U.S.C. 300x-1(b) |  | 59 | 1 | 120 | 7,109
| 42 U.S.C. 300x-1(b)(2) |  | 59 | 1 |  |
| 42 U.S.C. 300x-2(a) |  | 59 | 1 |  |
Waivers |  |  |  |  |  | 3,240
42 U.S.C. 300x-24(b)(5)(B) |  |  | 20 | 1 |  |
42 U.S.C. 300x-28(d) |  | 45 CFR 96.132(d) | 5 | 1 |  |
42 U.S.C. 300x-30(c) |  | 45 CFR 96.134(b) | 10 | 1 |  |
42 U.S.C. 300x-31(c) |  |  | 1 | 1 |  |
42 U.S.C. 300x-32(c) |  |  | 7 | 1 |  |
42 U.S.C. 300x-32(e) |  |  | 10 |  |  |
| 42 U.S.C. 300x-2(a)(2) |  | 10 |  |  |
| 42 U.S.C 300x-4(b)(3) |  | 10 |  |  |
| 42 U.S.C 300x-6(b) |  | 7 |  |  |
Recordkeeping:
42 U.S.C. 300x-23 | 42 U.S.C. 300x-3 | 45 CFR 96.126(c) | 60/59 | 1 | 20 | 1,200
42 U.S.C. 300x-25 |  | 45 CFR 96.129(a)(13) | 10 | 1 | 20 | 200
42 U.S.C 300x-65 |  | 42 CFR Part 54 | 60 | 1 | 20 | 1,200
Combined Burden |  |  |  |  |  | 42,373
Report:
300x-52(a)—Requirement of Reports and Audits by States—Report.
300x-30(b)—Maintenance of Effort (MOE) Regarding State Expenditures—Exclusion of Certain Funds (SABG).
300x-30(d)(2)—MOE—Noncompliance—Submission of Information to Secretary (SABG).
State Plan—SABG.
300x-22(b)—Allocations for Women.
300x-23—Intravenous Substance Abuse.
300x-27—Priority in Admissions to Treatment.
300x-29—Statewide Assessment of Need.
300x-32(b)—State Plan.
State Plan—MHBG.
42 U.S.C. 300x-1(b)—Criteria for Plan.
42 U.S.C. 300x-1(b)(2)—State Plan for Comprehensive Community Mental Health Services for Certain Individuals—Criteria for Plan—Mental Health System Data and Epidemiology.
42 U.S.C. 300x-2(a)—Certain Agreements—Allocations for Systems Integrated Services for Children.
Waivers—SABG.
300x-24(b)(5)(B)—Human Immunodeficiency Virus—Requirement regarding Rural Areas.
300x-28(d)—Additional Agreements.
300x-30(c)—MOE.
300x-31(c)—Restrictions on Expenditure of Grant—Waiver Regarding Construction of Facilities.
300x-32(c)—Certain Territories.
300x-32(e)—Waiver amendment for 1922, 1923, 1924 and 1927.
Waivers—MHBG.
300x-2(a)(2)—Allocations for Systems Integrated Services for Children.
300x-6(b)—Waiver for Certain Territories.
Recordkeeping.
300x-23—Waiting list.
300x-25—Group Homes for Persons in Recovery from Substance Use Disorders.
300x-65—Charitable Choice.

Table 2—Estimates of Application and Reporting Burden for Year 2
| Number of respondent | Number of responses per year | Number of hours per response | Total hours
Reporting:
SABG | 60 | 1 | 187 | 11,220
MHBG | 59 | 1 | 187 | 11,033
Recordkeeping | 60/59 | 1 | 40 | 2,360
Combined Burden |  |  |  | 24,613

The total annualized burden for the application and reporting is 33,493 hours (42,373 + 24,613 = 66,986/2 years = 33,493).

Link for the application: https://www.samhsa.gov/grants/block-grants.

Written comments and recommendations for the proposed information collection should be sent within 30 days of publication of this notice to www.reginfo.gov/public/do/PRAMain. Find this information collection by selecting “Currently under 30-day Review—Open for Public Comments” or by using the search function.

Carlos Graham,
Reports Clearance Officer.

[FR Doc. 2021-28563 Filed 1-4-22; 8:45 am]

BILLING CODE 4162-20-P